DEPARTMENT OF TRANSPORTATION

Surface Transportation Board

[Docket No. FD 35736]

AG Valley Railroad, LLC—Operation Exemption—Ag Valley Holdings, LLC

AG Valley Railroad, LLC (AVRR), a noncarrier, has filed a verified notice of exemption under 49 CFR 1150.31 to operate approximately 3.09 miles of rail line (16,304 feet), known as the Chicago Transload Facility trackage (the Line), in Chicago, Ill., pursuant to an operating agreement with Ag Valley Holdings, LLC, (Ag Valley Holdings). AVRR states that there are no mileposts on the Line. Based on the map provided in Appendix 1-B, the Line is located between E. 100th St. and E. 104th St., and roughly parallel to S. Torrence Ave.

According to AVRR, the Line, which is owned by Ag Valley Holdings, is used in conjunction with interchange to and from Chicago Rail Link and for transloading carloads of inbound and outbound shipments of specified products for distribution to their final destination.

The earliest the transaction can be consummated is June 6, 2013, the effective date of the exemption (30 days after the exemption was filed).

AVRR certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than May 30, 2013 (at least 7 days before the exemption becomes effective).

An original and 10 copies of all pleadings, referring to Docket No. FD 35736, must be filed with the Surface Transportation Board, 395 E Street SW., Washington, DC 20423-0001. In addition, a copy of each pleading must be served on David C. Dillon, Dillon & Nash, Ltd., 111 West Washington Street, Suite 1023, Chicago, IL 60602.

Board decisions and notices are available on our Web site at www.stb.dot.gov.

Decided: May 20, 2013.
By the Board, Rachel D. Campbell, Director, Office of Proceedings.
Jeffrey Herzig,
Clearance Clerk.

[FR Doc. 2013-12332 Filed 5-22-13; 8:45 am]

BILLING CODE 4915-01-P